DEPARTMENT OF THE INTERIOR

Bureau of Land Management

[LLORV00000-L10200000.DD0000; HAG 11-0042]

Notice of Public Meeting, National Historic Oregon Trail Interpretive Center Advisory Board

AGENCY: Bureau of Land Management, Interior.

ACTION: Meeting Notice for the National Historic Oregon Trail Interpretive Center Advisory Board.

SUMMARY: Pursuant to the Federal Land Policy and Management Act and the Federal Advisory Committee Act, the U.S. Department of the Interior, Bureau of Land Management (BLM) National Historic Oregon Trail Interpretive Center (NHOTIC) Advisory Board will meet as indicated below:

DATES: The meeting will begin at 1 p.m. (Pacific Time) on November 29, 2010.

ADDRESSES: The meeting will take place at the National Historic Oregon Trail Interpretive Center, 22267 Highway 86, Baker City, Oregon.

FOR FURTHER INFORMATION CONTACT: Mark Wilkening, Public Affairs Officer, BLM Vale District Office, 100 Oregon Street, Vale, Oregon 97918, (541) 473-6218, or e-mail mark_wilkening@blm.gov.

SUPPLEMENTARY INFORMATION: At the NHOTIC Advisory Board meeting, we will welcome members and interested public, discuss NHOTIC funding for Fiscal Year 2011, provide an update on the Boardman to Hemmingway transmission right-of-way application, discuss the benefits/options for continuing the NHOTIC Advisory Board, get an update from the NHOTIC Manager, and consider other matters that may reasonably come before the NHOTIC Advisory Board. The meeting will take place from 1 p.m.to 4:30 p.m. (Pacific Time). The public is welcome to attend all portions of the meeting and may make oral comments to the NHOTIC Advisory Board at 3:45 p.m. on November 29, 2010. Those who verbally address the NHOTIC Advisory Board are asked to provide a written statement of their comments or presentation. Unless otherwise approved by the NHOTIC chair, the public comment period will last no longer than 15 minutes, and each speaker may address the NHOTIC Advisory Board for a maximum of five minutes. If reasonable accommodation is required, please contact Mark Wilkening, Public Affairs Officer, at the BLM Vale District Office at (541) 473-6218 as soon as possible. For a copy of the information to be distributed to the NHOTIC Advisory Board members, please submit a written request to the BLM Vale District Office 10 days prior to the meeting.

Dated: October 20, 2010.
Donald N. Gonzalez,
District Manager.

[FR Doc. 2010-27155 Filed 10-26-10; 8:45 am]

BILLING CODE 4310-33-P